DEPARTMENT OF ENERGY

Energy Information Administration

American Statistical Association Committee on Energy Statistics

AGENCY: Department of Energy.

ACTION: Notice of open meeting.

SUMMARY: This notice announces a meeting of the American Statistical Association Committee on Energy Statistics, a utilized Federal Advisory Committee. The Federal Advisory Committee Act (Public Law 92-463, 86 Stat. 770) requires that public notice of these meetings be announced in the Federal Register.

DATES: Thursday, October 28, 2004, 8:30 a.m.-4:55 p.m.; Friday, October 29, 2004, 8:30 a.m.-12:15 p.m.

ADDRESSES: U.S. Department of Energy, Room 8E-089, 1000 Independence Ave., SW., Washington, DC 20585.

FOR FURTHER INFORMATION CONTACT: Mr. William I. Weinig, EI-70, Committee Liaison, Energy Information Administration, U.S. Department of Energy, 1000 Independence Ave., SW., Washington, DC 20585, Telephone: (202) 287-1709. Alternately, Mr. Weinig may be contacted by e-mail at william.weinig@eia.doe.gov or by fax at (202) 287-1705.

Purpose of the Committee: To advise the Department of Energy, Energy Information Administration (EIA), on EIA technical statistical issues and to enable the EIA to benefit from the Committee's experience concerning other energy-related statistical matters.

Tentative Agenda

Thursday, October 28, 2004

A. Opening Remarks by the ASA Committee Chair, the EIA Administrator and the Director, Statistics and Methods Group, EIA. Room 8E-089

B. Major Topics (Room 8E-089 unless otherwise noted)

1. Evaluation of Impact of Cognitive Testing

2. Update on Applying ListServ Sampling to Evaluate EIA's Analytical Products (5E-069)

3. Assessing EIA Frames, including Progress on Frames Evaluations Being Conducted by the Census Bureau for EIA, and Lessons Learned from EIA Project on Frames Evaluation: MECS and the Refinery Surveys

4. The EIA Short-Term Regional Electricity Model: Capabilities and Data Requirements Issues in Short-Term Modeling (5E-069)

5. Invitation for Public Questions and Comments

6. Natural Gas Production, Frames, Samples and Estimation

7. Methods for Assessing NEMS Solution Data for Interpretive and Diagnostic Purposes (5E-069)

8. External Evaluations of Survey Programs

9. Evaluations of Forecasting Models (5E-069)

10. How the ASA Energy Committee Might Help in Program Evaluation under PART?

11. Invitation for Public Questions and Comments

Friday, October 29, 2004

C. Major Topics

1. Data Analysis on the EIA-826/906

2. Post-Stratification Methodology for the 2002 Manufacturing Energy Consumption Survey (MECS)

3. Time Series Edits for the Electric Power EIA-920 (5E-069)

4. If (EIA's budget really looked grim and) You Were King?

5. Invitation for Public Questions and Comments

D. Closing Remarks by the ASA Committee Chair.

Public Participation: The meeting is open to the public.

The Chair of the Committee is empowered to conduct the meeting in a fashion that will facilitate the orderly conduct of business. Written statements may be filed with the committee either before or after the meeting. If there are any questions, please contact Mr. William I. Weinig, EIA Committee Liaison, at the address or telephone number listed above. This notice is being published less than 15 days before the date of the meeting due to programmatic issues that had to be resolved prior to publication.

A Meeting Summary and Transcript will subsequently be available through Mr. Weinig who may be contacted at (202) 287-1709 or by e-mail at william.weinig@eia.doe.gov.

Issued at Washington, DC on October 18, 2004.
Rachel M. Samuel,
Deputy Advisory Committee, Management Officer.

[FR Doc. 04-23580 Filed 10-20-04; 8:45 am]

BILLING CODE 6450-01-P